SOCIAL SECURITY ADMINISTRATION

[Docket No: SSA-2022-0042]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2022-0042].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2022-0042].

I. The information collections below are pending at SSA. SSA will submit them to OMB within 60 days from the date of this notice. To be sure we consider your comments, we must receive them no later than October 17, 2022. Individuals can obtain copies of the collection instruments by writing to the above email address.

1. Waiver of Your Right to Personal Appearance before an Administrative Law Judge—20 CFR 404.948(b)(1)(i), 404.956, 416.1448(b)(1)(i), and 416.1456—0960-0284. Applicants for Social Security, Old Age, Survivors, and Disability Insurance (OASDI) benefits and Supplemental Security Income (SSI) payments have the statutory right to appear in person (or through a representative) and present evidence about their claims at a hearing before a judge. Per SSA regulations, if a claimant is dissatisfied with a determination or decision listed in 20 CFR 404.930 or 416.1430, the claimant may request a hearing before a judge, and has a right to appear at a hearing before a judge. At a hearing, claimants have the right to present evidence; have witnesses testify on their behalf; and present their case to the judge. A hearing may provide the judge with additional information to make a more informed decision. However, in some cases, claimants may choose to waive their right to appear before a judge for various reasons, including if they feel the evidence of record stands on its own, or if they are unable to attend a hearing due to extenuating circumstances. When a claimant chooses to waive the right to appear at a hearing and allows the judge to decide the case based on the written evidence of record alone, we ask the claimant to submit this request to us in writing so we can document it in their record. While SSA will accept a written request, we also allow claimants to use Form HA-4608 to serve as a written waiver for the claimant's right to a personal appearance before a judge. The claimant may complete the paper version of the HA-4608 and submit it back to SSA using the pre-paid envelope SSA sends with it, or the claimant may choose to complete the HA-4608 through the submittable PDF on SSA's website. The judge uses the information we collect on Form HA-4608 to continue processing the case and makes the completed form a part of the documentary evidence of record by placing it in the official record of the proceedings as an exhibit. Respondents are applicants or claimants for OASDI and SSI, or their representatives, who request to waive their right to appear before a judge.

Type of Request: Revision of an approved-OMB information collection.

Modality of completion | Number of respondents | Frequency of response | Average burden per response (minutes) | Estimated total annual burden (hours) | Average theoretical hourly cost amount (dollars) * | Total annual opportunity cost (dollars) **
HA-4608-PDF/paper version | 12,000 | 1 | 5 | 1,000 | * $11.70 | ** $11,700
* We based this figure on the average DI payments based on SSA's current FY 2022 data (https://www.ssa.gov/legislation/2022factsheet.pdf).
** This figure does not represent actual costs that SSA is imposing on recipients of Social Security payments to complete this application; rather, these are theoretical opportunity costs for the additional time respondents will spend to complete the application. There is no actual charge to respondents to complete the application.

2. Letter to Custodian of Birth Records—20 CFR 404.704, and 422.103-422.110—0960-0693. When individuals need help in obtaining evidence of their age in connection with Social Security number (SSN) card applications and claims for benefits, SSA prepares the SSA-L706, Letter to Custodian of Birth Records. SSA uses Form SSA-L706 to verify the proof of age when an SSN applicant submits a birth record that is deemed questionable in the Social Security Number Application Process (SSNAP) system. In most of the cases, we verify birth records (i.e., birth certificates) with the custodian of the record or issuing entity before processing the SSN card application via an online query such as the Electronic Verification of Vital Events (EVVE) or SSA-approved online access to State vital records. However, when the applicant submits alternative evidence to request an original SSN card or to correct a date of birth (DOB) that SSA cannot verify via an online query (i.e., the custodian/issuing entity of the birth record is a hospital or health care provider), we use the SSA-L706 to verify proof of age for enumeration purposes. The SSNAP system pre-fills a PDF version of the SSA-L706 using information from the SSN application to ensure accuracy and save time. SSA uses the letter to verify with the custodian or issuing entity, when necessary, the authenticity of the record the SSN applicant or claimant submitted. SSA mails the SSA-L706 to the respondents to complete and mail or fax back the completed form back to us. The respondents are SSN applicants who sign the request; State and local bureaus or agencies of vital statistics, and religious entities who submit the information regarding evidence of age for the SSN applicant.

Type of Request: Revision of an OMB-approved information collection.

Modality of completion | Number of respondents | Frequency of response | Average burden per response (minutes) | Estimated total annual burden (hours) | Average theoretical hourly cost amount (dollars) * | Total annual opportunity cost (dollars) **
SSA-L706—(SSNAP) | 573 | 1 | 10 | 96 | * $24.57 | ** $2,359
SSA-L706—(Respondents Signature Only) | 573 | 1 | 1 | 10 | * 28.01 | ** 280
Totals | 1,146 |  |  | 106 |  | ** 2,639
* We based these figures on the average U.S. worker's hourly wages, as reported by Bureau of Labor Statistics data (https://www.bls.gov/oes/current/oes_nat.htm), and by averaging both the average U.S. worker's hourly wage with the average Information and Record Clerks hourly wage, as reported by Bureau of Labor Statistics data (https://www.bls.gov/oes/current/oes434199.htm).
** This figure does not represent actual costs that SSA is imposing on recipients of Social Security payments to complete this application; rather, these are theoretical opportunity costs for the additional time respondents will spend to complete the application. There is no actual charge to respondents to complete the application.

II. SSA submitted the information collection below to OMB for clearance. Your comments regarding this information collection would be most useful if OMB and SSA receive them 30 days from the date of this publication. To be sure we consider your comments, we must receive them no later than September 19, 2022. Individuals can obtain copies of the OMB clearance package by writing to OR.Reports.Clearance@ssa.gov.

Continuing Disability Review Report—20 CFR 404.1589 & 416.989—0960-0072. Sections 221(i), 1614(a)(3)(H)(ii)(I) and 1633(c)(1) of the Social Security Act (Act) require SSA to periodically review the cases of individuals who receive benefits under Title II or Title XVI based on disability to determine if their disability continues. SSA considers adults eligible for disability payments if they continue to be unable to do substantial gainful activity because of their impairments, and we consider Title XVI children eligible for disability payment if they have marked and severe functional limitations because of their impairments. To assess claimants' ongoing disability payment eligibility, SSA uses the information gathered through the Continuing Disability Review Report to complete a mandatory review for the continue disability review (CDR).

SSA also uses the Continuing Disability Review Report to obtain information on sources of medical treatment; participation in vocational rehabilitation programs (if any); attempts to work (if any); and recipients' assessments when they believe their conditions improved. Title II or Title XVI disability recipients can complete the Continuing Disability Review Report using one of three modalities: (1) a paper application or fillable PDF (using Form SSA 454 BK); (2) a field office interview, during which SSA employees enter claimant's data directly into the Electronic Disability Collection System (EDCS); or (3) using an online system (i454). This new web-based modality will provide recipients a new platform for submitting information to increase accessibility and enhance automation. When SSA initiates a medical CDR, we send a mailed notice to the individual with a disability informing that individual that SSA requires a CDR. The mailed notice provides instructions to the recipient on how to assist the agency with initiating the CDR and gives the individual the option to complete a paper SSA-454 or an i454 for adult only disabled individuals. When an individual requires a CDR, a claims specialist (CS) mails the paper Form SSA-454-BK, and the respondent completes the form, and sends or brings it back to SSA; or the CS interviews the respondent and enters the information into the appropriate EDCS screens; or adult disabled individuals complete the SSA-454-BK electronically using the i454 internet application. Regardless of the modality the respondent uses to complete the information (paper, EDCS, or internet versions), SSA electronically stores the information provided in EDCS. The respondents complete the SSA-454-BK by themselves with self-help information available, or a representative may complete the paper form or electronic application on their behalf. The respondents are Title II or Title XVI disability recipients or their representatives.

Type of Request: Revision of an OMB-approved information collection.

Modality of completion | Number of respondents | Frequency of response | Average burden per response (minutes) | Estimated total annual burden (hours) | Average theoretical hourly cost amount (dollars) ** | Average wait time in field office (minutes) *** | Total annual opportunity cost (dollars) ****
SSA-454-BK (paper version) | 189,350 | 1 | * 480 | 1,514,800 | ** $11.70 | *** 24 | **** $18,609,318
Electronic Disability Collect System (EDCS) | 270,500 | 1 | * 480 | 2,164,000 | ** 11.70 | *** 24 | **** 26,584,740
i454 (Internet) | 81,150 | 1 | * 480 | 649,200 | ** 11.70 |  | **** 7,595,640
Totals | 541,000 |  |  | 4,328,000 |  |  | **** 52,789,698
* The estimated time of 480 minutes to complete Form SSA-454-BK is an average for the respondents, who are Title II or Title XVI disability recipients or their representatives. Some of these respondents may take longer to complete the forms and submit the information, while others will complete the forms faster, which is why we use average time estimates to calculate time burdens for these information collections. These estimates were originally developed, and are still based on, our current management information data. In addition, we increased this estimate based on public comments.
** We based this figure on the average DI payments based on SSA's current FY 2022 data (https://www.ssa.gov/legislation/2022factsheet.pdf).
*** We based this figure on the average FY 2022 wait times for field offices, based on SSA's current management information data.
**** This figure does not represent actual costs that SSA is imposing on recipients of Social Security payments to complete this application; rather, these are theoretical opportunity costs for the additional time respondents will spend to complete the application. There is no actual charge to respondents to complete the application.

Dated: August 12, 2022.
Naomi Sipple,
Reports Clearance Officer, Social Security Administration.

[FR Doc. 2022-17732 Filed 8-17-22; 8:45 am]

BILLING CODE 4191-02-P